DEPARTMENT OF ENERGY

Federal Energy Regulatory Commission

18 CFR Parts 260 and 284

[Docket Nos. RM07-10-000 and AD06-11-000]

Transparency Provisions of Section 23 of the Natural Gas Act; Transparency Provisions of the Energy Policy Act of 2005

July 17, 2007.

AGENCY: Federal Energy Regulatory Commission, Department of Energy.

ACTION: Notice of proposed rulemaking; notice of workshop and program.

SUMMARY: The Federal Energy Regulatory Commission is holding an informal workshop to discuss implementation and other technical issues associated with the proposals set forth in the Notice of Proposed Rulemaking issued April 14, 2007, in Commission Docket Nos. RM07-10-000 and AD06-11-000. 72 FR 20791 (April. 26, 2007).

DATES: July 24, 2007, 9:30 a.m. until 3:30 p.m.

ADDRESSES: Federal Energy Regulatory Commission, 888 First Street, NE., Rooms 3M-2A and B, Washington, DC 20426.

FOR FURTHER INFORMATION CONTACT: Lee Choo, Federal Energy Regulatory Commission, 888 First Street, NE., Washington, DC 20426. 202-502-6334, lee-ken.choo@FERC.gov.

SUPPLEMENTARY INFORMATION: As announced on June 1, 2007, the staff of the Federal Energy Regulatory Commission (Commission) will hold an informal workshop in the above-referenced proceedings on July 24, 2007, at the Federal Energy Regulatory Commission, 888 First Street, NE., Washington, DC 20426 in Meeting Room 3M-2A&B from 9:30 a.m. until 3:30 p.m. (EST). The staff is holding this workshop to discuss implementation and other technical issues associated with the proposals set forth in the Notice of Proposed Rulemaking (NOPR), Transparency Provisions of Section 23 of the Natural Gas Act, 72 FR 20791 (Apr. 26, 2007), FERC Stats. & Regs. ¶ 32,614 (2007).

All interested persons are invited, and there is no registration fee to attend. As stated in the first notice, this workshop will neither be web-cast nor transcribed. Reply comments should be filed in Docket No. RM07-10-000, in accordance with the dates set in the rulemaking docket. The workshop will be held on the third floor in Conference rooms 3M-2A & B.

Commission conferences are accessible under section 508 of the Rehabilitation Act of 1973. For accessibility accommodations please send an e-mail to accessibility@ferc.gov or call toll free 1-866-208-3372 (voice) or 202-208-1659 (TTY), or send a FAX to 202-208-2106 with the required accommodations.

The workshop will consist of two sessions to be organized as follows:

In the morning, staff plans to discuss issues related to implementing the proposal that intrastate pipelines post flow and capacity information of a daily basis. Participants are invited to bring up their implementation questions and issues. Some of the questions of interest to staff include:

1. Under the proposal, what are workable definitions of the terms “intrastate Docket Nos. RM07-10-000 and AD06-11-000 pipeline,” “major” and “segments?”

2. How can posting requirements be adjusted to accommodate particular pipeline operational characteristics?

3. What and at what locations do intrastate pipelines already collect information for use in day-to-day operations? Can the proposal be modified to make effective use of existing information?

4. Which types of pipelines should be exempt (e.g., pipelines with a single customer)? Others?

5. What should be the de minimis criterion? (Criteria proposed in the comments include, e.g., three customers, 50,000 Dth/d, less than 110 miles, and less-than 24 inch diameter.)

6. What is a realistic turnaround time for posting?

7. Are there strategies to develop the same or similar information that would impose less of a burden on intrastate pipelines?

After a lunch break, staff plans to discuss implementing the proposal to collect aggregated annual data from buyers and sellers of physical natural gas. Again, the focus is to be on implementation issues. The following are possible questions to address at the workshop. Some of the questions of interest to staff include:

1. Do the questions set forth in the Appendix of the NOPR elicit sufficient data to assess the overall size of the physical wholesale markets as well as the relative portion that form price indices versus the portion that use or depend on price indices?

2. What specific formats, definitions and submittal technology should be used to ensure consistency of data for accurate aggregation and analysis?

3. What information should be made public? When?

4. Given various annual reporting obligations, what is a reasonable annual report date?

5. Is any additional information needed?

Questions regarding the conference should be directed to Lee Choo by e-mail at lee-ken.choo@FERC.gov or by phone at 202-502-6334.

Kimberly D. Bose,
Secretary.

[FR Doc. E7-14341 Filed 7-24-07; 8:45 am]

BILLING CODE 6717-01-P